DEPARTMENT OF ENERGY

Federal Energy Regulatory Commission

[Docket No. EL03-124-000, et al.]

United States Department of Energy, et al.; Electric Rate and Corporate Filings

May 20, 2003.

The following filings have been made with the Commission. The filings are listed in ascending order within each docket classification.

1. United States Department of Energy Southwestern Power Administration, Complainant, v. Entergy, Arkansas, Incorporated, Respondent

[Docket No. EL03-124-000]

Take notice that on May 16, 2003, Southwestern Power Administration tendered for filing with the Federal Energy Regulatory Commission (Commission) a complaint related to the cancellation by Entergy, Arkansas, Incorporated of FERC Electric Rate Schedule No. 141, Docket No. ER94-104. Southwestern Power Administration asks the Commission to direct Entergy to cease and desist from the threatened termination of service and to comply with the terms and conditions of the Electric Rate Schedule and its contract.

Comment Date: June 5, 2003.

2. TransAlta Energy Marketing (U.S.) Inc., Complainant, v. Bonneville Power Administration, Respondent

[Docket No. EL03-125-000]

Take notice that on May 16, 2003, TransAlta Energy Marketing (U.S.) Inc. (TransAlta) filed a Complaint And Request For Fast Track Processing pursuant to section 206 of the Federal Power Act, 16 U.S.C. 824e (2000), and Rule 206 of the Rules of Practice and Procedure of the Federal Energy Regulatory Commission (Commission), 18 CFR 385.206, requesting that the Commission issue an order directing the Bonneville Power Administration (BPA) to honor TransAlta's rollover rights to which TransAlta asserts it is entitled to under the provisions of BPA's Commission-approved open-access transmission tariff.

TransAlta states that copies of this filing were served on representatives of BPA by facsimile, electronic mail and Federal Express overnight delivery. Comment Date: June 5, 2003.

3. Idaho Power Company

[Docket Nos. ER03-487-002 and ER03-488-002]

Take notice that on May 15, 2003, Idaho Power Company filed a revision to its May 1, 2003 compliance filing in Docket Nos. ER03-487-001 and ER03-488-001.

Comment Date: June 5, 2003.

4. Carolina Power & Light Company Florida Power Corporation

[Docket No. ER03-540-003]

Take notice that on May 15, 2003, Carolina Power & Light Company and Florida Power Corporation tendered for filing with the Federal Energy Regulatory Commission certain modifications to the credit security provisions of their Open Access Transmission Tariffs to become effective May 14, 2003, in compliance with the Commission's May 9, 2003 Order Accepting In part And Rejecting In part Tariff Sheets As Modified in this docket. Carolina Power & Light Company states that these tariff modifications supersede the tariff filings made on March 12, 2003 in Docket No. ER03-540-000.

Carolina Power & Light Company states that copies of the filing were served upon the public utilities' jurisdictional customers, the North Carolina Utilities Commission, the South Carolina Public Service Commission and the Florida Public Service Commission.

Comment Date: June 5, 2003.

5. Entergy Services, Inc.

[Docket No. ER03-599-002]

Take notice that on May 15, 2003, Entergy Services, Inc., (Entergy Services) on behalf of Entergy Arkansas, Inc. (Entergy Arkansas), tendered for filing revisions to Entergy Arkansas' 2003 Wholesale Formula Rate Update.

Comment Date: June 5, 2003.

6. Southern Power Company

[Docket No. ER03-713-001]

Take notice that on May 16, 2003, Southern Power Company (Southern Power) tendered a supplemental filing to its application for the approval of two long term market-rate power sale agreements by and between: (I) Georgia Power Company and Southern Power for Plant McIntosh Units 10 and 11, dated June 3, 2002, and (ii) Savannah Electric and Power Company and Southern Power for Plant McIntosh Units 10 and 11, dated June 3, 2002, in Docket No. ER03-713-000.

Comment Date: June 6, 2003.

7. Susquehanna Energy Products, LLC; Susquehanna Energy Products, LLLP

[Docket No. ER03-768-001]

Take notice that on May 15, 2003, Susquehanna Energy Products, LLC tendered for filing a Notice of Succession stating that Susquehanna Energy Products, LLC has adopted and succeeded to the rate schedule and petition submitted by Susquehanna Energy Products, LLLP on April 23, 2003 in Docket No. ER03-768-000. In addition, Susquehanna Energy Products, LLC states that the rate schedule has been updated as appropriate and in conformance with Order No. 614.

Comment Date: June 5, 2003.

8. Katahdin Paper Company LLC

[Docket No. ER03-796-001]

Take notice that on May 14, 2003, Katahdin Paper Company LLC submitted for filing an amendment to its application for authorization to sell energy, capacity and specified ancillary services at market-based rates, certain waivers and blanket exemptions and request for expedited action.

Comment Date: May 30, 2003.

9. Virginia Electric and Power Company

[Docket No. ER03-804-001]

Take notice that May 15, 2003, Virginia Electric and Power Company, doing business as Dominion Virginia Power (Dominion Virginia Power) tendered for filing an executed revised Network Integration Transmission Service Agreement including an executed revised Network Operating Agreement (collectively, Revised NITSA) between Dominion Virginia Power and Old Dominion Electric Cooperative (ODEC) with a revised cover page to reflect the appropriate designation.

Dominion Virginia Power requests that the Commission accept the Revised NITSA for filing and make it effective on April 1, 2003, the date on which the Company originally requested that the NITSA become effective and the date on which service began. Dominion Virginia Power states that copies of the filing were served upon ODEC and the Virginia State Corporation Commission.

Comment Date: June 5, 2003.

10. PJM Interconnection, L.L.C.

[Docket No. ER03-848-000]

Take notice that on May 16, 2003, PJM Interconnection, L.L.C. (PJM), submitted for filing two construction service agreements (CSA). PJM states that the CSAs are related to the Conectiv Bethlehem, Inc. (a/k/a PJM Queue # D 18) project, and are: (1) Among PJM and Conectiv Bethlehem, LLC (Conectiv Bethlehem) and PPL Electric Utilities; and (2) among PJM and Conectiv Bethlehem and Jersey Central Power & Light a First Energy Company.

PJM requests a waiver of the Commission's 60-day notice requirement to permit the requested effective dates for the CSAs. PJM states that copies of this filing were served upon the parties to the agreements and the state regulatory commissions within the PJM region.

Comment Date: June 6, 2003.

11. ISO New England Inc.

[Docket No. ER03-849-000]

Take notice that on May 16, 2003, pursuant to Section 205 of the Federal Power Act, ISO New England Inc. submitted a package of amendments to Market Rule 1 and Appendix A intended to implement general market power mitigation.

ISO New England Inc., states that copies of said filing have been served upon NEPOOL Participants. ISO New England Inc., also states that copies of this transmittal letter and the accompanying materials have also been sent to the Secretary of the NEPOOL Participants Committee, the governors and electric utility regulatory agencies for the six New England states which comprise the NEPOOL Control Area, and to the New England Conference of Public Utility Commissioners, Inc.

Comment Date: June 2, 2003.

12. Entergy Services, Inc.

[Docket No. ER03-850-000]

Take notice that on May 16, 2003, Entergy Services, Inc., (Entergy Services) on behalf of Entergy Arkansas, Inc., Entergy Gulf States, Inc., Entergy Louisiana, Inc., Entergy Mississippi, Inc., and Entergy New Orleans, Inc., tendered for filing the Fourth Revised Network Integration Transmission Service Agreement (NITSA) between Entergy Services and East Texas Electric Cooperative, Inc., Sam Rayburn G&T Electric Cooperative, Inc. (SRG&T), and Tex-La Electric Cooperative, Inc. Entergy Services states that the Fourth Revised NITSA extends the term in Section 7.0 during which SRG&T receives a monthly facilities credit for network transmission service.

Comment Date: June 6, 2003.

13. Entergy Services, Inc.

[Docket No. ER03-851-000]

Take notice that on May 16, 2003, Entergy Services, Inc., on behalf of Entergy Gulf States, Inc., tendered for filing an unexecuted, amended and restated Interconnection and Operating Agreement with ExxonMobil Oil Corporation (ExxonMobil), and an updated Generator Imbalance Agreement with ExxonMobil.

Comment Date: June 6, 2003.

14. New England Inc.

[Docket No. ER03-854-000]

Take notice that on May 15, 2003, pursuant to Section 205 of the Federal Power Act, ISO New England Inc., submitted a package of amendments to Market Rule 1 and Appendix F intended to implement reforms that are intended to improve pricing in the Real-Time Market during periods of reserve scarcity.

ISO New England, Inc., states that copies of said filing have been served upon NEPOOL Participants.

Comment Date: June 5, 2003.

15. Florida Power Corporation

[Docket No. ER03-855-000]

Take notice that on May 16, 2003, Florida Power Corporation (FPC), tendered for filing revisions to its Cost-Based Wholesale Power Sales Tariff, FERC Electric Tariff, First Revised Volume No. 9 (CR-1 Tariff). FPC states that the CR-1 Tariff is revised to clarify language regarding compensation due when FPC purchases power from alternative sources and to correct the effective date listed in the footer on Tariff Sheet No. 29. FPC requests that the revisions become effective on July 15, 2003.

FPC states that copies of the filing were served upon the Florida Public Service Commission and those customers taking service from FPC under the CR-1 Tariff.

Comment Date: June 6, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secetary.

[FR Doc. 03-13208 Filed 5-27-03; 8:45 am]

BILLING CODE 6717-01-P